DEPARTMENT OF THE INTERIOR

National Park Service

[NPS-WASO-NAGPRA-10632; 2200-1100-665]

Notice of Inventory Completion: The University of Montana, Missoula, MT

AGENCY: National Park Service, Interior.

ACTION: Notice.

SUMMARY: The University of Montana has completed an inventory of Native American human remains and associated funerary objects in consultation with the Confederated Salish and Kootenai Tribes of the Flathead Indian Reservation, Montana, and has determined that there is a cultural affiliation between the human remains and associated funerary objects and the Confederated Salish and Kootenai Tribes of the Flathead Indian Reservation, Montana. Representatives of any Indian tribe that believes itself to be culturally affiliated with the human remains and associated funerary objects may contact the University of Montana. Repatriation of the human remains and associated funerary objects to the Indian tribes stated below may occur if no additional claimants come forward.

DATES: Representatives of any Indian tribe that believes it has a cultural affiliation with the human remains and associated funerary objects should contact the University of Montana at the address below by August 20, 2012.

ADDRESSES: Dr. Sally Thompson, Department of Anthropology, University of Montana, Missoula, MT 59812, telephone (406) 243-5525.

SUPPLEMENTARY INFORMATION: Notice is here given in accordance with the Native American Graves Protection and Repatriation Act (NAGPRA), 25 U.S.C. 3003, of the completion of an inventory of human remains and associated funerary objects in the collections of the University of Montana, Missoula, MT. Human remains of three individuals and associated funerary objects were removed from locations along the west shore of Flathead Lake in Lake County, MT. Human remains of one individual were removed from within the city limits of Missoula, MT.

This notice is published as part of the National Park Service's administrative responsibilities under NAGPRA, 25 U.S.C. 3003(d)(3). The determinations in this notice are the sole responsibility of the institution that has control of the Native American human remains and associated funerary objects. The National Park Service is not responsible for the determinations in this notice.

Consultation

A detailed assessment of the human remains was made by the University of Montana professional staff in consultation with representatives of the Confederated Salish and Kootenai Tribes of the Flathead Indian Reservation, Montana.

History and Description of the Remains

In 1950, human remains representing, at minimum, two individuals were removed from the west shore of Flathead Lake, north of the Flathead Reservation, in Lake County, MT. This pre-contact burial was disturbed by excavation equipment and then turned over to the University of Montana, Department of Anthropology. The remains were discovered in the University's collection in 2011. Of the two individuals present, one is the nearly complete skeleton of an older female, at least 50 years of age at death. The second individual, represented only by several vertebrae, was also elderly, but exact age and sex cannot be determined. No known individuals were identified. No associated funerary objects are present.

In 1950, human remains representing, at minimum, one individual were removed from a primary, flexed burial in a rock outcropping on the west shore of Flathead Lake, in Lake County, MT, during real estate development. The site is within the boundaries of the Flathead Reservation but on private land near the town of Dayton, MT. Local amateur archaeologist, Thain White, contacted Carling Malouf of the University of Montana, Department of Anthropology, and the remains and associated funerary objects were removed to the University of Montana in Missoula. The human remains and associated funerary objects were discovered in the University's collection in 2011. The mostly complete skeleton is of a male, aged 35 to 50 years at death. No known individual was identified. The eight associated funerary objects are 1 large (6 cm) turtle-backed stone scraper, 1 chalcedony flake, 2 shell beads, 3 antler pieces, and 1 lot of faunal remains.

In 1950, during excavations for a business establishment human remains representing, at minimum, one individual were removed by a bulldozer from an historical Indian burial in the city of Missoula, MT. This burial site location is within the aboriginal territory of the Confederated Salish and Kootenai Tribes. The nearly complete skeletal remains of a child, aged 7 to 8 years at death, and associated funerary objects were transferred by the County Coroner to the University of Montana, Department of Anthropology, for analysis by Carling Malouf. In 2011, the human remains and associated funerary objects were discovered to be associated with documentation of an Indian burial. No known individual was identified. The six associated funerary objects are 1 commercially-manufactured purse, 1 pink glass bead, 1 Kootenai style leather moccasin tongue insert, 1 rawhide pouch, and 2 rawhide fragments.

Determinations Made by the University of Montana

Officials of the University of Montana have determined that:

• Pursuant to 25 U.S.C. 3001(9), the human remains described in this notice represent the physical remains of four individuals of Native American ancestry.

• Pursuant to 25 U.S.C. 3001(3)(A), the 14 objects described above are reasonably believed to have been placed with or near individual human remains at the time of death or later as part of the death rite or ceremony.

• Pursuant to 25 U.S.C. 3001(2), there is a relationship of shared group identity that can be reasonably traced between the Native American human remains and associated funerary objects and the Confederated Salish and Kootenai Tribes of the Flathead Reservation, Montana.

Additional Requestors and Disposition

Representatives of any Indian tribe that believes itself to be culturally affiliated with the human remains and associated funerary objects should contact Dr. Sally Thompson, Department of Anthropology, University of Montana, Missoula, MT 59812, telephone (406) 243-5525 before August 20, 2012. Repatriation of the human remains and associated funerary objects to the Confederated Salish and Kootenai Tribes of the Flathead Reservation, Montana, may proceed after that date if no additional claimants come forward.

The University of Montana is responsible for notifying the Confederated Salish and Kootenai Tribes of the Flathead Reservation, Montana, that this notice has been published.

Dated: June 18, 2012.
Sherry Hutt,
Manager, National NAGPRA.

[FR Doc. 2012-17625 Filed 7-18-12; 8:45 am]

BILLING CODE 4312-50-P